DEPARTMENT OF HEALTH AND HUMAN SERVICES

Administration on Aging

Agency Information Collection Activities: Proposed Submission to the Office of Management and Budget (OMB) for Clearance; Comment Request; Approval of an Information Collection Survey

AGENCY: Administration on Aging, HHS.

The Administration on Aging (AoA), Department of Health and Human Services, provides an opportunity for comment on the following proposal for the collection of information in compliance with the Paperwork Reduction Act (PRA; Pub. L. 96-511):

Title of Information Collection: National Family Caregiver Support Program Survey: Grandparents and Other Relatives Raising Children.

Type of Request: This request is for approval of a one-time survey to identify agencies currently providing services to grandparents and other relatives caring for grandchildren.

Use: Data will be collected by Generations United, a National Family Caregiver Support Program discretionary grantee, on organizations providing services to grandparents and other relatives caring for children, nature of services provided, number of grandparents and other relative caregivers served annually; number of children assisted annually, and training needs of these organizations to adequately evaluate the implementation, progress and process of the National Family Caregiver Support Program, Title III-E of the Older Americans Act (42 U.S.C. 3001 et seq.), as amended by the Older Americans Act Amendments of 2000 (Pub.L. 106-501). AoA and Generations United will use this data to plan technical assistance to these organizations in the forthcoming year. The data will also be used by the AoA to evaluate and describe all projects funded by this initiative and address the program's evaluation and Government Performance and Results Act (GPRA) requirements. Findings will be used to manage the program and better target future activities.

Frequency: One-time survey administered by Generations United.

Respondents: State Units on Aging, Area Agencies on Aging, Tribal and Native Organizations, Primary Health Care Centers.

Estimated Number of Responses: 1600.

Total Estimated Burden Hours: 10 minutes/organization × 1600 organizations = 267 hours.

Additional Information or Comments: The Administration on Aging plans to submit to the Office of Management and Budget for approval a one-time survey to identify organizations providing services to grandparents and other relative caregivers of children to design technical assistance to those organizations. Written comments and recommendations for the proposed information collection should be sent within 60 days of the publication of this Notice directly to the following address: Office of Program Development, Administration on Aging, Attention: Rick Greene, 330 Independence Avenue, SW., Rm 4748, Washington, DC 20201.

Dated: December 17, 2001.
Josefina G. Carbonell,
Assistant Secretary for Aging.

[FR Doc. 01-31502 Filed 12-20-01; 8:45 am]

BILLING CODE 4154-01-P